DEPARTMENT OF THE INTERIOR

Bureau of Land Management

[CO-600-00-1820-PG-241A]

Northwest Colorado Resource Advisory Council Meeting

AGENCY: Bureau of Land Management, Interior.

ACTION: Correction.

SUMMARY: The meeting location for the Northwest Colorado Resource Advisory Council Meeting published in the Federal Register on August 10, 2000 has been changed.

CORRECTION: In the Federal Register of August 10, 2000, Volume 65, Number 155, FR Doc. 00-20239, page 49010, correct the “Summary” to read: The next meeting of the Northwest Colorado Resource Advisory Council will be held on Wednesday, September 20, 2000, at the Center of Craig, 601 Yampa Avenue, Room 112, Craig, Colorado. Correct the first paragraph, first sentence of the “Supplementary Information” to read: The Northwest Resource Advisory Council (RAC) will meet on Wednesday, September 20, 2000, at the Center of Craig, 601 Yampa Avenue, Room 112, Craig, Colorado.

Dated: August 24, 2000.
Richard Arcand,
Acting Center Manager, Northwest Center.

[FR Doc. 00-22120 Filed 8-29-00; 8:45 am]

BILLING CODE 4310-JB-P